DEPARTMENT OF ENERGY

Federal Energy Regulatory Commission

Combined Notice of Filings #2

Take notice that the Commission received the following electric rate filings:

Docket Numbers: ER10-2374-016; ER10-2374-018; ER17-2059-011; EL24-133-000; EL24-134-000.

Applicants: Puget Sound Energy, Inc., Puget Sound Energy, Inc., Puget Sound Energy, Inc., Puget Sound Energy, Inc.

Description: Amendment to Response by Puget Sound Energy, Inc.

Filed Date: 1/6/25.

Accession Number: 20250106-5250.

Comment Date: 5 p.m. ET 2/14/25.

Docket Numbers: ER25-1044-000.

Applicants: Southwest Power Pool, Inc.

Description: § 205(d) Rate Filing: 2825R12 KMEA and Evergy Kansas Central Meter Agent Agreement to be effective 1/1/2025.

Filed Date: 1/24/25.

Accession Number: 20250124-5074.

Comment Date: 5 p.m. ET 2/14/25.

Docket Numbers: ER25-1045-000.

Applicants: Alabama Power Company, Georgia Power Company, Mississippi Power Company.

Description: § 205(d) Rate Filing: Alabama Power Company submits tariff filing per 35.13(a)(2)(iii: PowerSouth NITSA Amendment (Remove McVay-Scyrene Temporary DP) to be effective 1/24/2025.

Filed Date: 1/24/25.

Accession Number: 20250124-5080.

Comment Date: 5 p.m. ET 2/14/25.

Docket Numbers: ER25-1046-000.

Applicants: Duke Energy Carolinas, LLC.

Description: § 205(d) Rate Filing: DEC—Central revisions to Rate Schedule No. 336 to be effective 1/1/2025.

Filed Date: 1/24/25.

Accession Number: 20250124-5150.

Comment Date: 5 p.m. ET 2/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 24, 2025.
Carlos D. Clay,
Deputy Secretary.

[FR Doc. 2025-01982 Filed 1-30-25; 8:45 am]

BILLING CODE 6717-01-P